FEDERAL COMMUNICATIONS COMMISSION

47 CFR Part 64

[CG Docket No. 10-51; FCC 11-118]

Structure and Practices of the Video Relay Service Program

AGENCY: Federal Communications Commission.

ACTION: Interim rule.

SUMMARY: In this document, the Commission adopts interim rules requiring that Internet-based Telecommunications Relay Service (iTRS) providers certify, under penalty of perjury, that their certification applications and annual compliance filings are truthful, accurate, and complete. These rules are necessary to help ensure that the Commission has true and complete information, thereby ensuring that only qualified providers are eligible for compensation from the Interstate TRS Fund (Fund).

DATES: Effective September 6, 2011, except 47 CFR 64.606 (a)(2)(v) and (g)(2) which contains information collection requirements that have not been approved by the Office of Management and Budget (OMB). The Federal Communications Commission will publish a document in the Federal Register announcing the effective date. Written comments on the Paperwork Reduction Act (PRA) new information collection requirements must be submitted by the public, OMB and other interested parties on or before August 30, 2011.

ADDRESSES: Federal Communications Commission, 445 12th Street, SW., Washington, DC 20554. Comments on the information collection requirements contained herein should be submitted to Cathy Williams, Federal Communications Commission, via e-mail at PRA@fcc.gov and Cathy.Williams@fcc.gov.

FOR FURTHER INFORMATION CONTACT: Gregory Hlibok, Consumer and Governmental Affairs Bureau at (202) 559-5158 (VP), or e-mail: Gregory.Hlibok@fcc.gov. For additional information concerning the information collection requirements contained in this document, contact Cathy Williams at (202) 418-2918, or e-mail: Cathy.Williams@fcc.gov.

SUPPLEMENTARY INFORMATION: This is a summary of the Commission's Structure and Practices of the Video Relay Service Program, Order (Order), document FCC 11-118 adopted July 28, 2011, and released July 28, 2011, in CG Docket No. 10-51, adopting interim rules related to the Commission certification process for iTRS providers. The full text of FCC 11-118 and copies of any subsequently filed documents in this matter will be available for public inspection and copying during regular business hours at the FCC Reference Information Center, Portals II, 445 12th Street, SW., Room CY-A257, Washington, DC 20554. FCC 11-118 and copies of subsequently filed documents in this matter may also be purchased from the Commission's duplicating contractor, Best Copying and Printing, Inc. (BCPI), at Portals II, 445 12th Street SW., Room CY-B402, Washington, DC 20554. Customers may contact BCPI at its Web site, http://www.bcpiweb.com, or by calling 202-488-5300. FCC 11-118 can also be downloaded in Word or Portable Document Format (PDF) at: http://www.fcc.gov/cgb/dro/trs.html#orders.To request materials in accessible formats for people with disabilities (Braille, large print, electronic files, audio format), send an e-mail to fcc504@fcc.gov or call the Consumer and Governmental Affairs Bureau at (202) 418-0530 (voice), (202) 418-0432 (TTY).

Congressional Review Act

The Commission will send a copy of document FCC 11-118 in a report to be sent to Congress and the Government Accountability Office pursuant to the Congressional Review Act. See 5 U.S.C. 801(a)(1)(A).

Final Paperwork Reduction Act of 1995 Analysis

The interim rules adopted in document FCC 11-118 contain new information collection requirements subject to the PRA. Document FCC 11-118 will be submitted to OMB for review under section 3507(d) of the PRA. OMB, the general public, and other Federal agencies are invited to comment on the new information collection requirements contained in this proceeding. While the interim rules in document FCC 11-118 are being adopted without notice and comment, and therefore are not subject to Regulatory Flexibility Act analysis under 5 U.S.C. 604(a), the Commission believes that the information collection burden on small businesses from the interim rules is de minimis. Specifically, to the extent they require that providers support their certification applications and annual compliance filings with a certification, under penalty of perjury, as to the truthfulness, accuracy, and completeness of the filings, this merely entails adding the language specifically provided in the interim rules and having the filing signed by a senior executive. The Commission therefore concludes that the information collection burden associated with the interim rules is de minimis.

Synopsis

In document FCC 11-118, the Commission adopts interim rules requiring that providers certify, under penalty of perjury, that their certification applications and annual compliance filings required under § 64.606(g) of the Commission's rules are truthful, accurate, and complete. The Commission finds good cause to adopt the interim rules to ensure that providers seeking certification and providers holding certifications may be held accountable for their submissions as they seek to secure or retain certification under the rules adopted in the Second Report and Order portion of document FCC 11-118.

The Commission previously has found that requiring a signed statement sworn to be true under penalty of perjury is a vehicle long and regularly used in a myriad of legal contexts to guarantee the veracity of the declarations, as well as to provide a means for civil enforcement and criminal prosecution to hold high level officials accountable for the actions and submissions of their companies. In addition, any applicant for, or holder of, any Commission authorization already is required to ensure that its statements to the Commission are truthful, accurate, and complete under the Commission's rules. Consistent with these existing requirements, the Commission concludes that interim rules requiring certification by a senior executive, under penalty of perjury, to the truthfulness, accuracy, and completeness of certification applications and annual compliance filings are a necessary and critical component of the Commission's efforts to curtail fraud and abuse. In particular, these interim rules will help to ensure that the Commission has true and complete information, thereby ensuring that only qualified providers are eligible for compensation from the Fund.

The Commission finds good cause to adopt the interim rules without notice and comment, pursuant to 5 U.S.C. 553(b)(3)(B), in light of the impending deadlines for initial and re-certification applications. The current stay of the Commission's rule which prohibits revenue sharing arrangements expires on October 1, 2011, and iTRS providers who are not eligible to receive compensation directly from the Fund but are currently providing service under a revenue sharing arrangement will no longer be able to provide service through such arrangements. Similarly, providers currently eligible for compensation from the Fund via a means other than Commission certification must apply for certification within 30 days after the final rules adopted in document FCC 11-118 become effective, and providers with Commission certifications expiring November 4, 2011 must apply for recertification after the rules become effective but at least 30 days prior to their expirations provided that the rules are effective by that date, or risk having to shut down their operations and being denied compensation from the Fund. The Commission therefore finds that interim rules are consistent with the public interest, given the importance of ensuring that only qualified providers are certified to become eligible for compensation from the Fund. The Commission concludes that notice and comment, in this instance, are impracticable given the impending certification application deadlines. In a forthcoming Notice of Proposed Rulemaking, the Commission will seek additional comment on whether to make these rules permanent.

Final Regulatory Flexibility Analysis

The interim rules adopted in document FCC 11-118 are being adopted without notice and comment, and therefore are not subject to Regulatory Flexibility Act analysis under 5 U.S.C. 604(a). The Commission will perform the appropriate regulatory flexibility analyses for any permanent rules adopted at a later date.

Ordering Clauses

Pursuant to sections 1, 4(i), (j) and (o), 225, and 303(r) of the Communications Act of 1934, as amended, 47 U.S.C. 151, 154(i), (j) and (o), 225, and 303(r), and section 553(b)(3)(B) of the Administrative Procedure Act, 5 U.S.C. 553(b)(3)(B), document FCC 11-118 IS ADOPTED. Pursuant to § 1.427(a) of the Commission's rules, 47 CFR 1.427(a), document FCC 11-118 shall be effective September 6, 2011, except 47 CFR 64.606 (a)(2)(v) and (g)(2), which require approval by OMB under the PRA and which shall become effective after the Commission publishes a notice in the Federal Register announcing such approval and the relevant effective date.

The Commission's Consumer and Governmental Affairs Bureau, Reference Information Center, shall send a copy of document FCC 11-118 to the Chief Counsel for Advocacy of the Small Business Administration.

List of Subjects in 47 CFR Part 64

Individuals with disabilities, Reporting and recordkeeping requirements, Telecommunications.

Federal Communications Commission.
Marlene H. Dortch,
Secretary.

Rule Changes

For the reasons discussed in the preamble, the Federal Communications Commission amends 47 CFR part 64 as follows:

PART 64—MISCELLANEOUS RULES RELATING TO COMMON CARRIERS

1. The authority citation for part 64 continues to read as follows:

Authority: 47 U.S.C. 154, 254(k); secs. 403(b)(2)(B), (c), Pub. L. 104-104, 110 Stat. 56. Interpret or apply 47 U.S.C. 201, 218, 225, 226, 228, 254(k), and 620, unless otherwise noted.

2. Section 64.606 is amended by revising paragraph (a)(2)(v) and paragraph (g) to read as follows:

§ 64.606 Internet-based TRS provider and TRS program certification.

(a) * * *

(2) * * *

(v) The chief executive officer (CEO), chief financial officer (CFO), or other senior executive of an applicant for Internet-based TRS certification under this section with first hand knowledge of the accuracy and completeness of the information provided, when submitting an application for certification under paragraph (a)(2) of this section, must certify as follows: I swear under penalty of perjury that I am __ (name and title), __an officer of the above-named applicant, and that I have examined the foregoing submissions, and that all information required under the Commission's rules and orders has been provided and all statements of fact, as well as all documentation contained in this submission, are true, accurate, and complete.

* * * * *

(g) Internet-based TRS providers certified under this section shall file with the Commission, on an annual basis, a report demonstrating that they are in compliance with § 64.604.

(1) Such reports must update the information required in paragraph (a)(2) of this section and include updated documentation and a summary of the updates, or certify that there are no changes to the information and documentation submitted with the application for certification, application for renewal of certification, or the most recent annual report, as applicable.

(2) The chief executive officer (CEO), chief financial officer (CFO), or other senior executive of an Internet-based TRS provider under this section with first hand knowledge of the accuracy and completeness of the information provided, when submitting an annual report under paragraph (g) of this section, must, with each such submission, certify as follows: I swear under penalty of perjury that I am __ (name and title), an officer of the above-named reporting entity, and that I have examined the foregoing submissions, and that all information required under the Commission's rules and orders has been provided and all statements of fact, as well as all documentation contained in this submission, are true, accurate, and complete.

* * * * *

[FR Doc. 2011-19793 Filed 8-4-11; 8:45 am]

BILLING CODE 6712-01-P